ENVIRONMENTAL PROTECTION AGENCY

[FRL—FRL 8679-01-OA]

Request for Nominations for the Science Advisory Board; Contaminant Candidate List 5 Panel

AGENCY: Environmental Protection Agency (EPA).

ACTION: Notice.

SUMMARY: The Environmental Protection Agency (EPA) Science Advisory Board (SAB) Staff Office requests public nominations of scientific experts to form a Panel to review the draft EPA document titled Contaminant Candidate List 5—Draft (CCL 5—Draft). This draft document presents a list of contaminants that are known or anticipated to occur in public water systems, and which may require future regulation under the Safe Drinking Water Act (SDWA). The CCL is one tool, EPA uses to identify priority contaminants for future regulatory decision making and research needs, and does not impose any requirements on any regulated entity.

DATES: Nominations should be submitted by August 5, 2021 per the instructions below.

FOR FURTHER INFORMATION CONTACT: Any member of the public wishing further information regarding this Notice and Request for Nominations may contact Carolyn Kilgore, Designated Federal Officer (DFO), EPA Science Advisory Board by telephone/voice mail (202) 564-0230, or email at kilgore.carolyn@epa.gov. General information concerning the EPA SAB can be found at the EPA SAB website at http://www.epa.gov/sab.

SUPPLEMENTARY INFORMATION: Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. App. 2) and related regulations. The SAB Staff Office is forming an expert Contaminant Candidate List (CCL) 5 Panel, under the auspices of the Chartered SAB. The CCL 5 Panel will provide advice through the chartered SAB. The SAB and CCL 5 Panel will comply with the provisions of FACA and all appropriate SAB Staff Office procedural policies.

The CCL 5 Panel will conduct the review of CCL 5—Draft prepared by the EPA's Office of Office of Ground Water and Drinking Water (OGWDW). OGWDW develops and helps implement national drinking water standards, including the Contaminant Candidate List. EPA uses this list of unregulated contaminants to prioritize drinking water research and data collection efforts. The panel will be charged with reviewing the science, clarity, transparency and supporting documents used to develop the CCL 5—Draft. This panel will provide advice through the Chartered SAB.

Request for Nominations: The SAB Staff Office is seeking nominations of nationally and internationally recognized scientists with demonstrated expertise in: chemical assessments with expertise in one or more of the following disciplines: Microbiology (with a focus on waterborne pathogens); public health; toxicology including developmental/reproductive toxicology; expertise on new and emerging contaminants; statistical modeling and uncertainty analysis; risk assessment, and exposure of contaminants in drinking water.

Process and Deadline for Submitting Nominations: Any interested person or organization may nominate qualified individuals in the areas of expertise described above for possible service on the SAB Panel. Individuals may self-nominate. Nominations should be submitted in electronic format (preferred) following the instructions for “Nominating Experts to Advisory Panels and Ad Hoc Committees Being Formed,” provided on the SAB website (see the “Nomination of Experts” link under “Current Activities” at http://www.epa.gov/sab). To be considered, nominations should include the information requested below. EPA values and welcomes diversity. All qualified candidates are encouraged to apply regardless of sex, race, disability or ethnicity. Nominations should be submitted in time to arrive no later than August 5, 2021.

The following information should be provided on the nomination form: Contact information for the person making the nomination; contact information for the nominee; and the disciplinary and specific areas of expertise of the nominee. Nominees will be contacted by the SAB Staff Office and will be asked to provide a recent curriculum vitae and a narrative biographical summary that includes: Current position, educational background; research activities; sources of research funding for the last two years; and recent service on other national advisory committees or national professional organizations. Persons having questions about the nomination procedures, or who are unable to submit nominations through the SAB website, should contact the DFO at the contact information noted above. The names and biosketches of qualified nominees identified by respondents to this Federal Register notice, and additional experts identified by the SAB Staff Office, will be posted in a list of candidates for the Panel on the SAB website at http://www.epa.gov/sab. Public comments on the list of candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming the expert panel, the SAB Staff Office will consider public comments on the lists of candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at http://www.epa.gov/sab. This form should not be submitted as part of a nomination.

The approved policy under which the EPA SAB Office selects members for subcommittees and review panels is described in the following document: Overview of the Panel Formation Process at the Environmental Protection Agency Science Advisory Board (EPA-SAB-EC-02-010), which is posted on the SAB website at http://www.epa.gov/sab.

V. Khanna Johnston,
Deputy Director, Science Advisory Board Staff Office.

[FR Doc. 2021-15013 Filed 7-14-21; 8:45 am]

BILLING CODE 6560-50-P